NUCLEAR REGULATORY COMMISSION

Advisory Committee on Nuclear Waste; Notice of Meeting

The Advisory Committee on Nuclear Waste (ACNW) will hold its 174th meeting on November 13-16, 2006, Room T-2B3, 11545 Rockville Pike, Rockville, Maryland.

The schedule for this meeting is as follows:

Monday, November 13, 2006

10 a.m.-10:05 a.m.: Opening Remarks by the ACNW Chairman (Open)—The ACNW Chairman, Dr. Michael Ryan, will make opening remarks regarding the conduct of today's sessions.

10:05 a.m.-12 p.m.: Update on Status of Seismic Design Bases and Methodology: NRC Perspective (Open)—Staff representatives from the NRC Office of Nuclear Material Safety and Safeguards (NMSS) will brief the Committee on seismic issues and review methodologies for both pre- and post-closure phases of the Yucca Mountain repository operation.

1 p.m.-2:30 p.m.: Results from the Liquid Radioactive Release Lessons Learned Task Force—A representative from the NRC Office of Nuclear Reactor Regulation (NRR) will brief the Committee on the results from the recently completed report from the Liquid Radioactive Release Lessons Learned Task Force.

2:30 p.m.-5:30 p.m.: Preparation for Meeting with NRC Commissioners (Open)—The Committee will discuss topics of mutual interest in preparation for ACNW meeting with the NRC Commissioners that is scheduled for Thursday, December 14, 2006. There may be a 15 minute break at some point during this activity.

Tuesday, November 14, 2006

ACNW Working Group Meeting on Decommissioning Lessons Learned (Open)

8:30 a.m.-8:45 a.m.: Opening Remarks and Introductions (Open)—The ACNW Chairman will make opening remarks regarding the conduct of today's sessions. ACNW Member Dr. James Clarke will provide an overview of the Working Group Meeting (WGM), including the meeting purpose and scope, and introduce invited subject matter experts.

Session I: Decommissioning Lessons Learned

8:45 a.m.-11:30 a.m.: Representatives from the Nuclear Energy Institute, the Fuel Cycle Facilities Forum, the Argonne National Laboratory, and the Army Corps of Engineers will discuss their lessons learned in decommissioning of facilities.

11:30 a.m.-12:30 p.m.: Session I Panel Discussion—Committee Member Clarke will lead a panel discussion with the invited subject matter experts on decommissioning lessons learned.

Session II: Implementing Decommissioning Lessons Learned in NRC Rules And Guidance

1:30 p.m.-4 p.m.: A representative from the Kansas Department of Health and Environment will discuss decommissioning lessons learned from an Agreement State perspective. Staff representatives from NRR and the NRC Office of Federal and State Materials and Environmental Management Programs (FSME) will discuss decommissioning lessons learned efforts within NRC and implementation of selected decommissioning lessons learned in NRC rules and guidance.

4:15 p.m.-5:15 p.m.: Session II Panel Discussion—Committee Member Clarke will lead a panel discussion with the invited subject matter experts on implementing decommissioning lessons learned in NRC rules and guidance.

5:15 p.m.-5:30 p.m.: Wrap Up—ACNW Member Dr. James Clarke will provide a summary of the Working Group Meeting, including a discussion of a possible letter report to the Commission.

Wednesday, November 15, 2006

8:30 a.m.-8:35 a.m.: Opening Remarks by the ACNW Chairman (Open)—The Chairman will make opening remarks regarding the conduct of today's sessions.

8:35 a.m.-12:30 p.m.: Dose Effect Relationships and Estimation of the Carcinogenic Effects of Low Doses of Ionizing Radiation (Open)—French scientists will brief the ACNW regarding the content of the recent report by the French Academy of Sciences and National Academy of Medicine. There may be a 15 minute break at some point during this presentation.

1:30 p.m.-4 p.m.: White Paper on Potential Advanced Fuel Cycles (Open)—The draft ACNW white paper on spent nuclear fuel recycling will be discussed. This paper focuses on various known reprocessing methods and their resulting effluents and waste. Licensing of a new reprocessing facility will also be addressed.

4:15 p.m.-5:30 p.m.: Discussion of Draft ACNW Letter Reports (Open)—The Committee will discuss potential and proposed ACNW letter reports.

Thursday, November 16, 2006

8:30 a.m.-8:35 a.m.: Opening Remarks by the ACNW Chairman (Open)—The Chairman will make opening remarks regarding the conduct of today's sessions.

8:35 a.m.-10 a.m.: Proposed Revision to Regulatory Guide 1.112, Calculation of Releases of Radioactive Materials in Gaseous and Liquid Effluents from Light-Water-Cooled Reactors (Open)—Staff representatives from the NRC Office of Nuclear Regulatory Research (RES) will brief the Committee on the proposed modifications to Regulatory Guide 1.112 in support of new reactor licensing.

10:15 a.m.-11:45 a.m.: Proposed Revision to Regulatory Guide 4.15, Quality Assurance for Radiological Monitoring Programs (Inception Through Normal Operations to License Termination)—Effluent Streams and the Environment (Open)—RES representatives will brief the Committee on the proposed revision to Regulatory Guide 4.15 in support of new reactor licensing.

1 p.m.—3 p.m.: Discussion of Potential ACNW Letter Reports (Open)—The Committee will discuss potential and proposed ACNW letter reports.

3:15 p.m.-5 p.m.: Miscellaneous (Open)—The Committee will discuss matters related to the conduct of ACNW activities and specific issues that were not completed during previous meetings, as time and availability of information permit. Discussions may include future Committee Meetings.

Procedures for the conduct of and participation in ACNW meetings were published in the Federal Register on October 12, 2006 (71 FR 60196). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: October 27, 2006.
Annette L. Vietti-Cook,
Secretary of the Commission.

[FR Doc. E6-18468 Filed 11-1-06; 8:45 am]

BILLING CODE 7590-01-P